DEPARTMENT OF ENERGY

Federal Energy Regulatory Commission

Combined Notice of Filings #1

June 23, 2005.

Take notice that the Commission received the following electric rate filings.

Docket Numbers: ER01-1305-010.

Applicants: Westar Generating, Inc.

Description: Westar Generating, Inc. submits a compliance filing, pursuant to the settlement filed on 5/24/02 and approved by Commission order issued 9/5/02 (100 FERC ¶61,255), informing the Commission of its third periodic rate adjustment in accordance with the formula rate of the settlement agreement which requires that any difference between actual & allowed costs & estimated billings be paid by or refunded to Westar Energy as appropriate.

Filed Date: 06/17/2005.

Accession Number: 20050622-0274.

Comment Date: 5 p.m. eastern time on Friday, July 8, 2005.

Docket Numbers: ER05-1051-000.

Applicants: Westar Energy, Inc.

Description: Westar Energy Inc submits a Notice of Withdrawal of the unexecuted Service Agreement for Ancillary Services and Distribution Facilities between Kansas Power Pool and Southwest Power Pool, Inc.

Filed Date: 06/20/2005.

Accession Number: 20050621-0237.

Comment Date: 5 p.m. eastern time on Monday, July 11, 2005.

Docket Numbers: ER05-1128-000.

Applicants: New York State Electric & Gas Corporation.

Description: New York State Electric & Gas Corporation submits a supplement to FERC Rate Schedule 200—Facilities Agreement with the New York Power Authority.

Filed Date: 06/20/2005.

Accession Number: 20050622-0268.

Comment Date: 5 p.m. eastern time on Monday, July 11, 2005.

Docket Numbers: ER05-1129-000.

Applicants: Rockingham Power, L.L.C.

Description: Rockingham Power L.L.C. submits Rate Schedule FERC 4, Original Sheet 1, under which it specifies its revenue requirement for providing cost-based reactive support and voltage control from generation sources service.

Filed Date: 06/20/2005.

Accession Number: 20050622-0267.

Comment Date: 5 p.m. eastern time on Monday, July 11, 2005.

Docket Numbers: ER05-1130-000.

Applicants: Murphy Oil USA, Inc.

Description: Murphy Oil USA Inc. submits a notice of cancellation of its market-based rate tariff currently on file as Rate Schedule FERC No. 1.

Filed Date: 06/20/2005.

Accession Number: 20050622-0266.

Comment Date: 5 p.m. eastern time on Monday, July 11, 2005.

Docket Numbers: ER05-1131-000.

Applicants: Southwestern Electric Power Company.

Description: Southwestern Electric Power Company submits its actuarial reports with respect to post-employment benefits other than pensions & post-employment benefits for calendar year 2004 under ER05-1131.

Filed Date: 06/20/2005.

Accession Number: 20050622-0273.

Comment Date: 5 p.m. eastern time on Monday, July 11, 2005.

Docket Numbers: ER05-1132-000.

Applicants: Shell Energy Services Company, L.L.C.

Description: Shell Energy Services Co., LLC submits a notice of cancellation of its market-based rate schedule, FERC Rate Schedule No. 1.

Filed Date: 06/20/2005.

Accession Number: 20050622-0272.

Comment Date: 5 p.m. eastern time on Monday, July 11, 2005.

Docket Numbers: ER05-1133-000.

Applicants: Milford Power Limited Partnership.

Description: Milford Power Limited Partnership submits notice of its market-based rate schedule FERC Rate Schedule No. 1.

Filed Date: 06/20/2005.

Accession Number: 20050623-0030.

Comment Date: 5 p.m. eastern time on Monday, July 11, 2005.

Docket Numbers: ER05-215-004.

Applicants: Midwest Independent Transmission System Operator, Inc.

Description: Midwest Independent Transmission System Operator, Inc. submits the large generator interconnection agreement with Ameren Services Company as agent for Illinois Power Company and Prairie State Generating Company LLC in compliance with the Commission's May 20, 2005 Order, 111 FERC ¶ 61,237 (2005).

Filed Date: 06/20/2005.

Accession Number: 20050623-0032.

Comment Date: 5 p.m. eastern time on Monday, July 11, 2005.

Docket Numbers: ER05-689-001.

Applicants: Public Service Company of New Mexico and Texas-New Mexico Power Company.

Description: Public Service Company of New Mexico and Texas-New Mexico Power Company submit Joint Open Access Transmission Tariff, Original Volume 1 of the PNM Resources, Inc to reflect the correct effective date as approved by FERC's 5/6/05 Order in ER05-689-000.

Filed Date: 06/20/2005.

Accession Number: 20050622-0006.

Comment Date: 5 p.m. eastern time on Monday, July 11, 2005.

Docket Numbers: ER05-731-001.

Applicants: Central Maine Power Company.

Description: Central Maine Power Company submits its report regarding refunds for sales of energy and capacity into the ISO New England spot market pursuant to the Commission's order issued 5/25/05 in ER05-731-000.

Filed Date: 06/20/2005.

Accession Number: 20050623-0033.

Comment Date: 5 p.m. eastern time on Monday, July 11, 2005.

Docket Numbers: ER05-732-001.

Applicants: Midwest Independent Transmission System Operator, Inc.

Description: Midwest Independent Transmission System Operator, Inc. submits certain additional supplemental information as an amendment to the 3/28/05 filing in Docket No. ER05-732-000 of an Interconnection & Operating Agreement with Tholen Transmission, Inc. and Northern States Power Company dba Xcel Energy.

Filed Date: 06/20/2005.

Accession Number: 20050623-0034.

Comment Date: 5 p.m. eastern time on Monday, July 11, 2005.

Docket Numbers: ER05-736-001.

Applicants: Midwest Independent Transmission System Operator, Inc.

Description: Midwest Independent Transmission System Operator, Inc. submits certain additional supplemental information as an amendment to its 3/28/05 filing in Docket No. ER05-736-001 regarding the interconnection agreement among Tholen Transmission, Inc. the Midwest ISO and Northern States Power Company d/b/a Xcel Energy under ER05-736.

Filed Date: 06/20/2005.

Accession Number: 20050623-0031.

Comment Date: 5 p.m. eastern time on Monday, July 11, 2005.

Docket Numbers: ER05-947-001.

Applicants: Southern California Edison Company.

Description: Southern California Edison Company submits revised rate sheets for the Bear Valley Project Distribution System Facilities Agreement with Southern California Water Company filed on 5/9/05 in Docket No. ER05-947-000.

Filed Date: 06/20/2005.

Accession Number: 20050621-0240.

Comment Date: 5 p.m. eastern time on Monday, July 11, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Linda Mitry,
Deputy Secretary.

[FR Doc. E5-3377 Filed 6-28-05; 8:45 am]

BILLING CODE 6717-01-P